DEPARTMENT OF DEFENSE

Office of the Secretary

TRICARE; Implementation Date for Uniform Skilled Nursing Facility (SNF) Benefit and Adoption of Medicare Payment Method for Skilled Nursing Facilities

Correction

In notice document 03-16980 appearing on page 40251 in the issue of Monday, July 7, 2003, make the following correction:

On page 40251, in the third column, in the fifth line, “August 12, 2003, as soon thereafter” should read, “August 12, 2002, or as soon as thereafter”.

[FR Doc. C3-16980 Filed 7-15-03; 8:45 am]

BILLING CODE 1505-01-D

GENERAL SERVICES ADMINISTRATION

41 CFR Part 105-55

[GSPMR Case 2003-105-1]

RIN 3090-AH84

General Services Administration Property Management Regulations; Collection of Claims Owed the United States

Correction

Proposed rule document 03-17286 was inadvertently published in the Rules and Regulations section in the issue of Friday, July 11, 2003, appearing on page 41274. It should have appeared in the Proposed Rules section.

[FR Doc. C3-17286 Filed 7-15-03; 8:45 am]

BILLING CODE 1505-01-D

SECURITIES AND EXCHANGE COMMISSION

[Release No. 34-48118; File No. SR-NYSE-2003-18]

Self-Regulatory Organizations; Notice of Filing and Order Granting Accelerated Approval of Proposed Rule Change by the New York Stock Exchange, Inc. Relating to Fingerprint-Based Background Checks of Exchange Employees and Others

July 1, 2003.

Correction

In notice document 03-17356 beginning on page 41033 in the issue of Wednesday, July 9, 2003, make the following correction:

On page 41035, in the second column, under the heading III. Solicitation of Comments, in the last two lines, “[insert date 21 days from the date of publication]” should read, “ July 30, 2003”.

[FR Doc. C3-17356 Filed 7-15-03; 8:45 am]

BILLING CODE 1505-01-D

DEPARTMENT OF TRANSPORTATION

Federal Aviation Administration

Policy Statement No. ANM-03-115-28: Use of Surrogate Parts When Evaluating Seatbacks and Seatback Mounted Accessories for Compliance With §§25.562(c)(5) and 25.785(b) and (d)

Correction

In notice document 03-17115 appearing on page 40732 in the issue of Tuesday, July 8, 2003 make the following correction:

On page 40732, in the first column, the subject heading is corrected to read as set forth above.

[FR Doc. C3-17115 Filed 7-15-03; 8:45 am]

BILLING CODE 1505-01-D